SOCIAL SECURITY ADMINISTRATION

Agency Information Collection Activities: Proposed Request and Comment Request

In compliance with Public Law 104-13, the Paperwork Reduction Act of 1995, SSA is providing notice of its information collections that require submission to the Office of Management and Budget (OMB). SSA is soliciting comments on the accuracy of the agency's burden estimate; the need for the information; its practical utility; ways to enhance its quality, utility and clarity; and on ways to minimize burden on respondents, including the use of automated collection techniques or other forms of information technology.

I. The information collections listed below will be submitted to OMB within 60 days from the date of this notice. Therefore, comments and recommendations regarding the information collections would be most useful if received by the Agency within 60 days from the date of this publication. Comments should be directed to the SSA Reports Clearance Officer at the address listed at the end of this publication. You can obtain a copy of the collection instruments by calling the SSA Reports Clearance Officer on (410) 965-4145, or by writing to him at the address listed at the end of this publication.

1. Electronic Death Registration (EDR) Survey—0960-NEW.

Background Information

In January 1997, the report “Toward an Electronic Death Registration System in the United States: Report of the Steering Committee to Reengineer the Death Registration Process” was prepared by a task force representing federal agencies (the National Center for Health Statistics and the Social Security Administration) and professional organizations representing funeral directors, physicians, medical examiners, coroners, hospitals, medical records professionals, and vital records and statistics officials (NAPHSIS). The committee examined in detail the feasibility of developing electronic death registration in the United States. The conclusion of the report was that the introduction of automated registration processes in the States is a viable means to resolve several historical and continuing problems in the process of death registration.

Death certificates are used in the United States for administrative and public health purposes. For nearly a century the States have maintained centralized vital records agencies to collect, process and archive death certificates. Death records are universally recognized as the primary source of death information, but registration processes remain labor intensive, employ disparate and limited automated procedures, and require several professionals at different locations to complete each of the more than 2.3 million death certificates registered each year.

Even though each State has laws requiring the registration of death records within a specific time period, a significant number of certificates are not appropriately filed, may contain incorrect or inconsistent entries, or are not finalized until many weeks after the death occurred.

The States and federal agencies understand the shortcomings of death registration methods currently practiced in the United Sates. Now that recent advances in computer and network access technology allow for the practical and efficient development and implementation of automated systems to register death information, several registration areas have independently pioneered electronic death registration methods. These different approaches will serve as the basis for developing standardized EDR attributes, methods and processes in order that the States may successfully implement electronic death registration to satisfy administrative and statistical death information needs.

Information Collection

In support of the EDR project, SSA entered into a contract with the National Association for Public Health Statistics and Information Systems to foster the adoption of a standardized form of EDR throughout the country. As the beginning step in the process, this survey is planned to provide a current picture of the readiness of the States to adopt EDR. This will, in turn, assist SSA to direct available funding anticipated in future years to those States that demonstrate sufficient resources, available technical expertise, and the political will and statutory readiness to implement EDR within the contract timeframe. Respondents to the survey will be officials from States, U.S. Territories and the city of New York with the knowledge and expertise to complete the survey. One survey will be sent to each State and territory and New York City.

Number of Respondents: 55.

Frequency of Response: 1.

Average Burden Per Response: 2 hours.

Estimated Annual Burden: 110 hours.

2. 0960-NEW. Information Collections Conducted by Adolescent Employment Readiness Center (AERC) of Children's Research Institute on behalf of SSA.

Background

Opening Doors to the Future for Adolescents with Special Health Care Needs, Executive Order (E.O.) 13078 dated March 13, 1998, Increasing Employment for Adults with Disabilities, directs that a National Task Force be established to create a coordinated and aggressive national policy to bring adults with disabilities into gainful employment at a rate that is as close as possible to that of the general adult population. E.O. 13078 specifies that the Task Force “evaluate and, where appropriate, coordinate and collaborate on research and demonstration priorities of Task Force member agencies related to employment of adults with disabilities.” In conjunction with the Task Force's Committee on Access to Employment and Lifelong Learning, the Subcommittee on Expanding Employment Opportunities for Young People with Disabilities was created.

In acknowledgment of its commitment to serving Supplemental Security Income (SSI) youth with disabilities, SSA awarded a Cooperative Agreement contract in accordance with E.O. 13078 in September of 1999. The project is designed to teach disabled school-age children, who live in an urban setting, that preparation for employment must begin at an early age to have maximum effect. Health care professionals and service providers from partnering agencies will be trained to prepare and implement 1,000 individualized transition plans for SSI recipients in the District of Columbia, between the ages of 11 and 21. Of those SSI youth with transition plans, 150 will be given direct vocational rehabilitation and follow-up services through the AERC, such as career counseling, interest and ability testing, job-seeking skills training, post-secondary education counseling, parent counseling, and mentor programs.

Information Collection

AERC counselors will collect information from project participants through personal interviews. The data will provide information on the need for and use of comprehensive transition services, the utilization and efficiency of transition services, the cost effectiveness of transition services, and the value of program replication. This will contribute significantly to SSA's knowledge about transitioning youth with disabilities to employment and adult activities. Respondents are disabled school-aged SSI recipients in the Washington, D.C. Metropolitan area identified to participate in the project.

Number of Respondents: 1000.

Frequency of Response: 1.

Average Burden Per Response: 30 minutes.

Estimated Annual Burden: 500 hours.

3. 0960-NEW. Medical Parking Permit Application. SSA issues medical parking assignments at SSA-owned and leased facilities to individuals who have a medical condition that meets the criteria for medical parking. In order to issue a medical parking permit, SSA must obtain medical evidence from the applicant's physician. SSA uses the information to determine whether the individual qualifies for a medical parking permit and to issue the permit. The respondents are physicians of applicants for medical parking permits.

Physician

Number of Respondents: 144.

Frequency of Response: 1.

Average Burden Per Response: 1 hour.

Estimated Annual Burden: 144 hours.

4. 0960-NEW. Authorization for Source to Release Information to the Social Security Administration (SSA). SSA must obtain sufficient medical evidence to make eligibility determinations for Social Security disability benefits and SSI payments. For SSA to obtain medical evidence, an applicant must authorize his or her medical source(s) to release the information to SSA. The applicant may use one of the forms SSA-827, SSA-827-OP1 or SSA-827-OP2 to provide consent for the release of information. Generally, the State Disability Determination Services completes the form(s), based on information provided by the applicant, and sends the form(s) to the designated medical source(s).

Number of Respondents: 3,853,928.

Frequency of Response (Average per case): 4.

Average Burden Per Response: 3 minutes.

Estimated Annual Burden: 770,786 hours.

II. The information collections listed below have been submitted to OMB for clearance. Written comments and recommendations on the information collections would be most useful if received within 30 days from the date of this publication. Comments should be directed to the SSA Reports Clearance Officer and the OMB Desk Officer at the addresses listed at the end of this publication. You can obtain a copy of the OMB clearance packages by calling the SSA Reports Clearance Officer on (410) 965-4145, or by writing to him.

1. 0960-NEW. Student Statement Regarding School Attendance. The information on Form SSA-1372-TEST is needed to determine whether children of an insured worker are eligible for benefits as a student. SSA will conduct a limited trial of the revised SSA-1372 (Student Statement Regarding School Attendance) designed as SSA-1372-TEST. This limited test will study the efficacy and usability of the new format. Results of the testing will formulate SSA's decision to reject, modify or institute the revised form. The respondents are student claimants for Social Security benefits and their respective schools.

Number of respondents: 2,000.

Number of Response: 1.

Average burden per response: 10.

Estimated Annual Burden: 333.

(SSA Address): Social Security Administration, DCFAM, Attn: Frederick W. Brickenkamp, 6401 Security Blvd., 1-A-21 Operations Bldg., Baltimore, MD 21235, (OMB Address): Office of Management and Budget, OIRA, Attn: Desk Officer for SSA, New Executive Office Building, Room 10230, 725 17th St., NW, Washington, DC 20503.

Dated: May 23, 2000.
Nicholas E. Tagliareni
Director, Center for Publications Management, Social Security Administration.

[FR Doc. 00-13409 Filed 5-26-00; 8:45 am]

BILLING CODE 4190-01-P